DEPARTMENT OF THE INTERIOR

Fish and Wildlife Service

[FWS-R7-R-2009-N0105; 70133-1265-0000-S3]

Koyukuk/Nowitna National Wildlife Refuges, Galena, AK

AGENCY: Fish and Wildlife Service, Interior.

ACTION: Notice of availability of the revised comprehensive conservation plan and finding of no significant impact for environmental assessment.

SUMMARY: We, the Fish and Wildlife Service (Service, USFWS), announce the availability of our revised comprehensive conservation plan (CCP) and finding of no significant impact (FONSI) for the Koyukuk, Northern Unit Innoko, and Nowitna National Wildlife Refuges (Refuges). In this revised CCP, we describe how we will manage the Refuges for the next 15 years.

ADDRESSES: You may view or obtain copies of the revised CCP and FONSI by any of the following methods. You may request a paper copy, a summary, or a CD-ROM containing both.

Agency Web Site: Download a copy of the documents at http://alaska.fws.gov/nwr/planning/plans.htm.

E-mail: fw7_KoyukukNowitna_planning@fws.gov. Please include “Revised CCP” in the subject line of the message.

Mail: Mikel R. Haase, Natural Resource Planner, U.S. Fish and Wildlife Service, 1011 E. Tudor Road, MS-231, Anchorage, AK 99503-6199, or Refuge Manager, Koyukuk/Nowitna NWRs, P.O. Box 287, Galena, AK 99741.

In-Person Viewing or Pickup: Call (907) 786-3357 to make an appointment during regular business hours at the USFWS Regional Office, 1011 E. Tudor Road, Anchorage AK 99053, or call (907) 656-1231 to make an appointment during business hours at the Koyukuk/Nowitna Refuges' office in Galena, AK.

FOR FURTHER INFORMATION CONTACT: Mikel Haase, (907) 786-3402 (phone); (907) 786-3965 (fax); or fw7_KoyukukNowitna_planning@fws.gov (e-mail).

SUPPLEMENTARY INFORMATION:

With this notice, we finalize the revised CCP for Koyukuk, Northern Unit Innoko, and Nowitna National Wildlife Refuges. We started this process through a notice of intent in the Federal Register (72 FR 57343; October 9, 2007). We made available our draft CCP and Environmental Assessment (EA) and requested comments in a notice of availability in the Federal Register (73 FR 58259; October 6, 2008). The draft CCP and EA evaluated two alternatives for managing the Refuges for the next 15 years.

Established in 1980 by the Alaska National Interest Lands Conservation Act (ANILCA: 16 U.S.C. 410hh et seq., 43 U.S.C. 1602 et seq.), Koyukuk, Northern Unit Innoko, and Nowitna Refuges encompass approximately 6 million acres under Service jurisdiction. The purposes for which the Refuges were established include: (i) To conserve fish and wildlife populations and habitats in their natural diversity; (ii) to fulfill international treaty obligations of the United States with respect to fish and wildlife and their habitats; (iii) to provide the opportunity for continued subsistence use by local residents; and (iv) to ensure water quality and necessary water quantity within the Refuge. The Draft CCP and EA for the Refuges was developed consistent with Section 304(g) of ANILCA and the Refuge Administration Act as amended by the Refuge Improvement Act (16 U.S.C. 668dd et seq.).

CCPs were originally prepared for the Refuges in 1987. The revised plan includes management direction updated by changes to policy since completion of the 1987 plans. It also includes a vision statement, goals, and objectives for management of the Refuge. Management of the Refuges would generally continue to follow management direction described in the 1987 CCPs and records of decisions as modified by subsequent program-specific plans (e.g., fisheries, cultural resources, and fire management plans). As required by ANILCA, areas of the Refuges were designated in the 1987 CCPs according to their respective resources. Under the original CCPs and the revised CCP, 91 percent of the Refuge is Minimal management, 7 percent is designated Wilderness, and 2 percent is Wild River management. The revised plan would continue to protect and maintain existing wildlife values, natural diversity, and ecological diversity of the Refuge. Human disturbances to fish and wildlife habitats and populations would be minimal. Private and commercial uses of the Refuges would not change, and public uses employing existing access methods would continue to be allowed. Opportunities to pursue traditional subsistence activities, and recreational hunting, fishing, and other wildlife-dependent activities, would be maintained. Opportunities to pursue research would be maintained.

We selected Alternative B, the preferred alternative, because it provides a realistic balance between public use of the Refuges and the conservation needs of the Refuges. Alternative B best accomplishes the Refuges' purposes, best helps achieve the missions of the National Wildlife Refuge System and the Service, and best meets the vision and goals identified in the plan. It provides long-term protection of fish and wildlife populations and their habitats while allowing for appropriate levels of fish and wildlife-dependent recreation, interpretation and environmental education, subsistence, and other public uses. Objectives identified in the plan address the effects of climate change on the Refuges now and in the future.

We are furnishing this notice to advise other agencies and the public of the availability of the final CCP and FONSI. Based on the review and evaluation of the information contained in the draft CCP and EA, we have determined that implementation of the final CCP does not constitute a major Federal action that would significantly affect the quality of the human environment within the meaning of Section 102(2)(c) of the National Environmental Policy Act (NEPA). Therefore, an Environmental Impact Statement will not be prepared. Future site-specific proposals discussed in the final CCP requiring additional NEPA compliance will be addressed in separate planning efforts with full public involvement.

Dated: August 7, 2009.
Gary Edwards,
Acting Regional Director, U.S. Fish and Wildlife Service, Anchorage, Alaska.

[FR Doc. E9-19444 Filed 8-12-09; 8:45 am]

BILLING CODE 4310-55-P